DEPARTMENT OF HEALTH AND HUMAN SERVICES

Centers for Disease Control and Prevention

National Trauma Information and Exchange Program

Announcement Type: New.

Funding Opportunity Number: 04272.

Catalog of Federal Domestic Assistance Number: 93.136.

Application Deadline: July 26, 2004.

I. Funding Opportunity Description

Authority: This program is authorized under sections 301(a) and 317(k)(2) of the Public Health Act, [42 U.S.C. sections 241(a) and 247b(k)(2)] as amended.

Purpose: The purpose of the Trauma Information and Exchange Program (TIEP) is the continuation of its work fostering the exchange and use of information to improve trauma care. This program will make information on trauma care in the U.S. accessible to a broad spectrum of individuals and organizations, including trauma care professionals, trauma centers, other acute care hospitals, EMS systems, injury researcher, public health agencies, health care payers and the general public. This program addresses the “Healthy People 2010” focus area(s) of Injury and Violence Prevention.

Measurable outcomes of the program will be in alignment with one (or more) of the following performance goal(s) for the National Center for Injury Prevention and Control: Increase the capacity of injury prevention and control programs to address the prevention of injuries and violence.

Activities: Awardee activities for this program are as follows:

• Own, maintain and update an inventory of 3,000+ trauma center and trauma system resources in the United States, including the development of information and educational materials and resources.

• Develop tools to assess the availability of trauma care across the country, and measure access and use of trauma centers by special populations.

• Establish a network of trauma care providers and provide guidance, information and resources to them in conducting research to evaluate the benefits of trauma centers and the optimal configuration of trauma care systems.

• Develop mechanisms to inform policy makers, the trauma community, and the general public about the status, contributions and needs of trauma care systems.

• Provide information to CDC and other agencies concerned with homeland security on medical preparedness for terrorism.

In a cooperative agreement, CDC staff is substantially involved in the program activities, above and beyond routine grant monitoring.

CDC Activities for this program are as follows:

• Provide technical advice and assistance in the development of systems to identify potential issues of interest. This includes assisting recipient to ascertain the extent to which trauma care centers and systems are involved in initiatives to improve preparedness and response capacities.

• Assist the recipient with identifying and sharing any innovations with interested parties both within and outside of CDC that may have potential application to this project.

• Provide ongoing consultation, and scientific and technical assistance and guidance in strategic planning and implementation of project elements.

• Work with the recipient to identify opportunities for collaboration between them and appropriate partners who address similar issues.

• Provide program and policy information for dissemination to award recipient.

II. Award Information

Type of Award: New Cooperative Agreement.

CDC involvement in this program is listed in the Activities Section above.

Fiscal Year Funds: 2004.

Approximate Total Funding: $491,219.

Approximate Number of Awards: One.

Approximate Average Award: $491,219 (This amount is for the first 12-month budget period, and includes both direct and indirect costs).

Floor of Award Range: None.

Ceiling of Award Range: $491,219.

Anticipated Award Date: September 29, 2004.

Budget Period Length: 12 months.

Project Period Length: Three years.

Throughout the project period, CDC's commitment to continuation of awards will be conditioned on the availability of funds, evidence of satisfactory progress by the recipient (as documented in required reports), and the determination that continued funding is in the best interest of the Federal Government.

III. Eligibility Information

III.1. Eligible Applicants

Applications may be submitted by public and private nonprofit and for profit organizations and by governments and their agencies, such as:

• Public nonprofit organizations

• Private nonprofit organizations

• For profit organizations

• Small, minority, women-owned businesses

• Universities

• Colleges

• Research institutions

• Hospitals

• Community-based organizations

• Faith-based organizations

• Federally recognized Indian tribal governments

• Indian tribes

• Indian tribal organizations

• State and local governments or their Bona Fide Agents (this includes the District of Columbia, the Commonwealth of Puerto Rico, the Virgin Islands, the Commonwealth of the Northern Marianna Islands, American Samoa, Guam, the Federated States of Micronesia, the Republic of the Marshall Islands, and the Republic of Palau)

• Political subdivisions of States (in consultation with States)

A Bona Fide Agent is an agency/organization identified by the state as eligible to submit an application under the state eligibility in lieu of a state application. If you are applying as a bona fide agent of a state or local government, you must provide a letter from the state or local government as documentation of your status. Place this documentation behind the first page of your application form.

III.2. Cost Sharing or Matching

Matching funds are not required for this program.

III.3. Other

If you request a funding amount greater than the ceiling of the award range, your application will be considered non-responsive, and will not be entered into the review process. You will be notified that your application did not meet the submission requirements.

Other Eligibility Requirements: If your application is incomplete or non-responsive to the requirements listed in this section, it will not be entered into the review process. You will be notified that your application did not meet submission requirements.

Note: Title 2 of the United States Code section 1611 states that an organization described in section 501(c)(4) of the Internal Revenue Code that engages in lobbying activities is not eligible to receive Federal funds constituting an award, grant, or loan.

IV. Application and Submission Information

IV.1. Address To Request Application Package

To apply for this funding opportunity use application Form PHS 5161. Application forms and instructions are available on the CDC web site, at the following Internet address: http://www.cdc.gov/od/pgo/forminfo.htm. If you do not have access to the Internet, or if you have difficulty accessing the forms on-line, you may contact the CDC Procurement and Grants Office Technical Information Management Section (PGO-TIM) staff at: 770-488-2700. Application forms can be mailed to you.

Application: You must submit a project narrative with your application forms. The narrative must be submitted in the following format:

• Maximum number of pages: 20

• If your narrative exceeds the page limit, only the first pages, which are within the page limit, will be reviewed.

• Font size: 12 point unreduced

• Paper size: 8.5 by 11 inches

• Page margin size: One inch

• Printed only on one side of page

Held together only by rubber bands or metal clips; not bound in any other way.

Your narrative should address activities to be conducted over the entire project period, and must include the following items in the order listed:

• Plan

• Methods

• Objectives

• Timeline

• Staff

• Need

• Performance Measures

Budget Justification [the budget justification will not be counted as part of the stated page limit.]

Guidance for completing your budget can be found on the CDC Web site, at the following Internet address: http://www.cdc.gov/od/pgo/funding/budgetguide.htm.

Additional information may be included in the application appendices. The appendices will not be counted toward the narrative page limit. This additional information includes:

• Curriculum Vitas

• Resumes

• Organizational Charts

• Letters of Support

You are required to have a Dun and Bradstreet Data Universal Numbering System (DUNS) number to apply for a grant or cooperative agreement from the Federal government. The DUNS number is a nine-digit identification number, which uniquely identifies business entities. Obtaining a DUNS number is easy and there is no charge. To obtain a DUNS number, access http://www.dunandbradstreet.com or call 1-866-705-5711. For more information, see the CDC Web site at: http://www.cdc.gov/od/pgo/funding/pubcommt.htm.

If your application form does not have a DUNS number field, please write your DUNS number at the top of the first page of your application, and/or include your DUNS number in your application cover letter.

IV.3. Submission Dates and Times

Application Deadline Date: July 26, 2004.

Explanation of Deadlines: Applications must be received in the CDC Procurement and Grants Office by 4 p.m. eastern time on the deadline date.

If you send your application by the United States Postal Service or commercial delivery service, you must ensure that the carrier will be able to guarantee delivery of the application by the closing date and time. If CDC receives your application after closing due to: (1) Carrier error, when the carrier accepted the package with a guarantee for delivery by the closing date and time, or (2) significant weather delays or natural disasters, you will be given the opportunity to submit documentation of the carriers guarantee. If the documentation verifies a carrier problem, CDC will consider the application as having been received by the deadline.

This announcement is the definitive guide on application submission address and deadline. It supersedes information provided in the application instructions. If your application does not meet the deadline above, it will not be eligible for review, and will be discarded. You will be notified that your application did not meet the submission requirements.

CDC will not notify you upon receipt of your application. If you have a question about the receipt of your application, first contact your courier. If you still have a question, contact the PGO-TIM staff at: 770-488-2700. Before calling, please wait two to three days after the application deadline. This will allow time for applications to be processed and logged.

IV.4. Intergovernmental Review of Applications

Executive Order 12372 does not apply to this program.

IV.5. Funding Restrictions

None

IV.6. Other Submission Requirements

Application Submission Address: Submit the original and two hard copies of your application by mail or express delivery service to: Technical Information Management—PA# 04272, CDC Procurement and Grants Office, 2920 Brandywine Road, Atlanta, GA 30341.

Applications may not be submitted electronically at this time.

V. Application Review Information

V.1. Criteria

Applicants are required to provide measures of effectiveness that will demonstrate the accomplishment of the various identified objectives of the cooperative agreement. Measures of effectiveness must relate to the performance goals stated in the “Purpose” section of this announcement. Measures must be objective and quantitative, and must measure the intended outcome. These measures of effectiveness must be submitted with the application and will be an element of evaluation.

Applications will be evaluated against the following criteria:

1. Background and Need (40 Percent)

Applicants should describe the background and need for a comprehensive trauma information program including; development, current challenges in organizing and delivering trauma care, challenges of developing and maintaining trauma systems. Additionally, applicants should: (a) Develop a plan to implement and evaluate their program; (b) provide a detailed plan for maintenance and updating of the information contained in the trauma center database; (c) develop a plan to exchange information and link resources of trauma centers; and (d) describe a plan for creating a uniform surveillance system.

2. Methods (30 Percent)

Applicants should provide a detailed description of all proposed activities required to implement a comprehensive trauma information and exchange program including letters of support, and collaboration needed to achieve each objective and the overall program goal(s). Applicants should provide a reasonable, logically sequenced and complete schedule for implementing all activities. Applicants should include position descriptions, lines of command, and collaborations that are appropriate to accomplishing the program goal(s) and objectives. Applicants should describe a plan for implementation and dissemination of available trauma information.

3. Evaluation (20 Percent)

The proposed evaluation plan should be detailed and capable of documenting program process and outcome measures. Applicants should demonstrate staff and/or collaborator availability, expertise, and capacity to perform the evaluation.

4. Staff and Resources (10 Percent)

Applicants should provide details regarding adequate facilities, staff and/or collaborators, including a full-time coordinator and resources to accomplish the proposed goal(s) and objectives during the project period. Applicants should demonstrate staff and/or collaborator availability, expertise, previous experience, and capacity to perform the undertaking successfully.

5. Budget and Justification (Not Scored)

Provide itemized budget and justification for the estimated costs of the contract; specify the period of performance, and method of selection. A detailed budget and narrative justification consistent with the stated objectives and planned program activities should be included. CDC may not approve or fund all proposed activities. The applicant should be precise about the program purpose of each budget item. Proposed contracts should identify the name of the contractor, if known; describe the services to be performed; provide an itemized budget and justification for the estimated costs of the contract; and specify the period of performance, and method of selection.

V.2. Review and Selection Process

Applications will be reviewed for completeness by the Procurement and Grants Office (PGO) staff, and for responsiveness by the National Center for Injury Prevention and Control. Incomplete applications and applications that are non-responsive to the eligibility criteria will not advance through the review process. Applicants will be notified that their application did not meet submission requirements.

An objective review panel is formed with a Chairperson, to provide process guidance for a total of three reviewers primary, secondary, and tertiary for each application reviewed to evaluate complete and responsive applications according to the criteria listed in the “V.1. Criteria” section above. After review of the applications, rating scores will be compared, and the application with the highest rating score is selected to receive funding. There are no preferential factors involved.

VI. Award Administration Information

VI.1. Award Notices

Successful applicants will receive a Notice of Grant Award (NGA) from the CDC Procurement and Grants Office. The NGA shall be the only binding, authorizing document between the recipient and CDC. The NGA will be signed by an authorized Grants Management Officer, and mailed to the recipient fiscal officer identified in the application.

Unsuccessful applicants will receive notification of the results of the application review by mail.

VI.2. Administrative and National Policy Requirements

45 CFR Part 74 and Part 92

For more information on the Code of Federal Regulations, see the National Archives and Records Administration at the following Internet address: http://www.access.gpo.gov/nara/cfr/cfr-table-search.html.

The following additional requirements apply to this project:

• AR-1 Human Subjects Requirements

• AR-9 Paperwork Reduction Act Requirements

• AR-10 Smoke-Free Workplace Requirements

• AR-11 Healthy People 2010

• AR-12 Lobbying Restrictions

• AR-25 Release and Sharing of Data

Additional information on these requirements can be found on the CDC Web site at the following Internet address: http://www.cdc.gov/od/pgo/funding/ARs.htm.

VI.3. Reporting Requirements

You must provide CDC with an original, plus two hard copies of the following reports:

1. Interim progress report, no less than 90 days before the end of the budget period. The progress report will serve as your non-competing continuation application, and must contain the following elements:

a. Current Budget Period Activities Objectives.

b. Current Budget Period Financial Progress.

c. New Budget Period Program Proposed Activity Objectives.

d. Budget.

e. Additional Requested Information.

f. Measures of Effectiveness.

2. Financial status report no more than 90 days after the end of the budget period.

3. Final financial and performance reports, no more than 90 days after the end of the project period. These reports must be mailed to the Grants Management or Contract Specialist listed in the “Agency Contacts” section of this announcement.

VII. Agency Contacts

For general questions about this announcement, contact: Technical Information Management Section, CDC Procurement and Grants Office, 2920 Brandywine Road, Atlanta, GA 30341, Telephone: 770-488-2700.

For program technical assistance, contact: Phyllis C. McGuire, Project Officer, Centers for Disease Control and Prevention, National Center for Injury Prevention and Control, 4770 Buford Highway, NE Mailstop F-41, Atlanta, GA 30341-3724, Telephone: 770-488-1275, e-mail: pcm1@cdc.gov.

For financial, grants management, or budget assistance, contact: Angie Tuttle, Grants Management Specialist, CDC Procurement and Grants Office, 2920 Brandywine Road, Atlanta, GA 30341, Telephone: 770-488-2719, e-mail: AEN4@cdc.gov.

Dated: June 21, 2004.
William P. Nichols, MPA,
Acting Director, Procurement and Grants Office, Centers for Disease Control and Prevention.

[FR Doc. 04-14469 Filed 6-24-04; 8:45 am]

BILLING CODE 4163-18-P